DEPARTMENT OF COMMERCE

National Oceanic and Atmospheric Administration

[RTID 0648-XD352]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a weeklong online work session that is open to the public. The purpose of the meeting is to prepare materials for the 2025-2026 harvest specifications and management measures and discuss other items on the Pacific Council's November 2023 meeting agenda.

DATES: The online webinar meeting for the work session will be held Monday, October 16, 2023, from 1 p.m., Pacific time until business is completed for the day. The GMT will reconvene on Tuesday, October 17 through Friday, October 20, 2023, from 8:30 a.m., Pacific time until business for each day has been completed.

ADDRESSES: This meeting will be held online. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Todd Phillips, Staff Officer, Pacific Council; telephone: (503) 820-2426.

SUPPLEMENTARY INFORMATION: The primary purpose of the GMT meeting is to develop recommendations on the development of the 2025-2026 harvest specifications and management measures for consideration by the Pacific Council at its November 2023 meeting. The GMT will also consider new management measures proposed by the Pacific Council at their September meeting.

The GMT will dedicate their session on Friday, October 20, 2023, from 8:30 a.m. to 12:30 p.m. Pacific time to specifically discuss items on the Pacific Council's November meeting. The primary purpose of this dedicated session is to prepare for the Pacific Council's November 2023 meeting agenda items. The GMT will discuss items related to groundfish management and administrative matters on the Pacific Council's agenda. The GMT may also address other assignments relating to groundfish management. No management actions will be decided by the GMT. A detailed agenda for this weeklong webinar will be available on the Pacific Council's website prior to the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 21, 2023.
Rey Israel Marquez,
Acting Deputy Director, Office of Sustainable Fisheries, National Marine Fisheries Service.

[FR Doc. 2023-20927 Filed 9-25-23; 8:45 am]

BILLING CODE 3510-22-P